DEPARTMENT OF EDUCATION

34 CFR Chapter III

[CFDA Number: 84.373Y.]

Proposed Priority; Technical Assistance To Improve State Data Capacity—National Technical Assistance Center To Improve State Capacity To Accurately Collect and Report IDEA Data

AGENCY: Office of Special Education and Rehabilitative Services, Department of Education.

ACTION: Notice.

SUMMARY: The Assistant Secretary for Special Education and Rehabilitative Services proposes a funding priority under the Technical Assistance (TA) on State Data Capacity program. The Assistant Secretary may use this proposed priority for competitions in fiscal year (FY) 2012 and later years. We take this action to focus attention on an identified national need to provide TA to improve the capacity of States to meet the data collection requirements of the Individuals with Disabilities Education Act (IDEA).

DATES: We must receive your comments on or before October 22, 2012.

ADDRESSES: Address all comments about this notice to Kelly Worthington, U.S. Department of Education, 400 Maryland Avenue SW., Room 4072, Potomac Center Plaza (PCP), Washington, DC 20202-2600.

If you prefer to send your comments by email, use the following address: Kelly.Worthington@ed.gov. You must include the term “State Data Capacity Priority” in the subject line of your electronic message.

FOR FURTHER INFORMATION CONTACT: Kelly Worthington. Telephone: (202) 245-7581.

If you use a telecommunications device for the deaf (TDD) or a text telephone (TTY), call the Federal Relay Service (FRS), toll free, at 1-800-877-8339.

SUPPLEMENTARY INFORMATION: Invitation to Comment: We invite you to submit comments regarding the proposed priority in this notice. To ensure that your comments have maximum effect in developing the notice of final priority, we urge you to clearly identify the specific topic that each comment addresses.

We invite you to assist us in complying with the specific requirements of Executive Orders 12866 and 13563 and their overall requirement of reducing regulatory burden that might result from this proposed priority. Please let us know of any further ways we could reduce potential costs or increase potential benefits while preserving the effective and efficient administration of the program.

During and after the comment period, you may inspect all public comments about this notice in Room 4072, 550 12th Street SW., Potomac Center Plaza, Washington, DC, between the hours of 8:30 a.m. and 4 p.m., Washington, DC time, Monday through Friday of each week except Federal holidays.

Assistance to Individuals With Disabilities in Reviewing the Rulemaking Record: On request, we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of the Technical Assistance on State Data Collection program is to improve the capacity of States to meet IDEA data collection and reporting requirements. Funding for the program is authorized under section 611(c)(1) of the IDEA, which gives the Secretary the authority to reserve funds appropriated under section 611 of the IDEA to provide TA authorized under section 616(i) of the IDEA. Section 616(i) requires the Secretary to review the data collection and analysis capacity of States to ensure that data and information determined necessary for implementation of section 616 and 618 of the IDEA are collected, analyzed, and accurately reported. It also requires the Secretary to provide TA, where needed, to improve the capacity of States to meet the data collection requirements under the IDEA.

Program Authority: 20 U.S.C. 1411(c), 1416(i), and 1418(c).

Proposed Priority

This notice contains one proposed priority. The priority is:

National Technical Assistance Center To Improve State Capacity To Accurately Collect and Report IDEA Data

Background

Sections 616 and 618 of the IDEA require States to collect data and report that data to the U.S. Department of Education (Department) and to the public (generally, “IDEA data requirements”). These data requirements apply to State agencies that administer the IDEA Part B program, under which the State must make a free appropriate public education available to children with disabilities ages 3 through 21, and the IDEA Part C program, under which the State must make early intervention services available to infants and toddlers with disabilities (birth to age 3) and their families.

Under section 618 of the IDEA, States are required to collect and report annually to the Secretary and the public primarily quantitative data on infants, toddlers, children, and students with disabilities. States must report a number of data elements, including the number of children served, the service settings or educational environments in which children with disabilities are served, the use of dispute resolution processes, assessment participation and performance for children with disabilities, reasons for children with disabilities exiting special education programs, disciplinary incidences and counts for children with and without disabilities (section 618(a) of the IDEA).¹ Data provided to the public must be reported in a manner that does not result in the disclosure of data identifiable to individual children (section 618(b) of the IDEA).

¹ The following Web links provide more information on IDEA 618 data elements: www.ideadata.org/PartCForms.asp and www.ideadata.org/PartBForms.asp.

Under section 616 of the IDEA, each State must submit a State Performance Plan (SPP) and an Annual Performance Report (APR) to the Department for Part B and for Part C. In its APR, a State must report to the Secretary and the public on its progress in meeting the measurable and rigorous targets for each of the indicators established by the Secretary, currently 14 IDEA Part C indicators and 20 IDEA Part B indicators (section 616(b)(2)(C)(ii)(II) of the IDEA).² In addition, each State must report on its efforts to improve implementation of the requirements and purposes of the IDEA and describe how they will improve that implementation (section 616(b)(1)(A) of the IDEA). Each State's SPPs and APRs must include both quantitative information (e.g., under Part B's Indicator 1, the percent of youth with individualized education programs (IEPs) graduating with a regular high school diploma) and qualitative information about the State's efforts to improve the State's performance regarding each of the State's targets in its SPP (e.g., based on an analysis of the data available to the State, the State's explanation of, and plans to address, any progress or slippage in meeting graduation targets). Finally, each State must report to the public on implementation of the requirements and purposes of the IDEA at the local level by posting on the State agency's Web site the performance of each local educational agency (LEA) in meeting the State's targets for the Part B indicators and of each early intervention service (EIS) program in meeting the State's targets for the Part C indicators (section 616(b)(2)(C)(ii)(I) of the IDEA).

² The following Web sites provide more information on the 616 SPP/APR Indicators: www.ed.gov/policy/speced/guid/idea/capr/index.html and www2.ed.gov/policy/speced/guid/idea/bapr/index.html.

The Secretary is required to review the data collection and analysis capacity of States to ensure that data and information determined necessary for implementation of sections 616 and 618 of the IDEA are collected and accurately reported by States to the Department, and to provide TA, where needed, to improve the capacity of States to meet the data collection requirements (section 616(i) of the IDEA). See also section 618(c) of the IDEA regarding the Secretary's authority to provide TA to States to ensure compliance with the data collection and reporting requirements of the IDEA.

The Department has reviewed the data collection and analysis capacity of States to ensure that IDEA data are being collected and accurately reported to the Department and the public. As explained in more detail in the following paragraphs, the Department's assessment is that States need TA to improve their data collection capacity and their ability to analyze that data to ensure that the data are accurate and can be reported to the Department and the public, as applicable. States also need TA to help them analyze the data available to them so that they can each provide, in their SPPs and APRs, more accurate qualitative information about their efforts to improve implementation of the requirements and purposes of the IDEA, and to more accurately target future improvement activities.

Improve data infrastructures. In order to meet IDEA data requirements, States must have the capacity to collect and analyze data on a variety of data elements, including but not limited to: Child and student background characteristics (e.g., race, ethnicity, limited English proficient status, gender, disability category); early intervention service setting; percentage of time in the general education classroom; student performance on statewide assessments, including the name of each assessment; personnel serving students with disabilities and their qualifications; the use of dispute resolution processes to resolve differences between parents and program providers; the incidence of disciplinary actions; and financial data. Under IDEA, collecting and reporting accurate and timely IDEA data is the responsibility of the State agencies responsible for implementing IDEA, but, in practice, multiple offices collect and report IDEA data, and they often do not effectively share data with one another or govern the quality of the data. This reduces the accuracy and timeliness of the data ultimately reported to the Department. For example, the EDFacts Coordinator in each State educational agency submits IDEA child count, educational environments, personnel, exiting, discipline, and assessment data for children with disabilities to the Department, as well as required data about children with disabilities for other educational program offices. A description of EDFacts can be found at www.ed.gov/edfacts. State general education authorities, specifically State assessment offices, are responsible for collecting accurate participation and performance assessment data about students with and without disabilities for multiple State data submissions to the Department, including IDEA. State special education program offices, however, do not always have access to the IDEA data collected and submitted by other State offices, which can compromise data validity and reliability.

The Department's review of all the quantitative IDEA data revealed that IDEA assessment and IDEA discipline data have the most frequent data errors. Data elements for both of these required IDEA data collections often are in data systems that are generally not accessible to or managed by State special education offices, which points to the need to develop a coordinated IDEA data infrastructure. For example, IDEA requires that States report annually to the Secretary and the public the number and percentage of children with disabilities who are expelled as compared to children without disabilities who are expelled. Yet expulsion data for students without disabilities is not consistently collected by States, which means that required comparisons cannot be accurately reported. Improving the accuracy of IDEA discipline data about students with and without disabilities requires coordination with non-special education offices and personnel. States, therefore, need TA to build data collection and reporting capacity within the context of multiple data systems and program offices, particularly when State special education offices do not manage the operating procedures or have direct access to the data needed for IDEA reporting. States also need TA to enhance their capacity to use data systems to collect valid and reliable data; analyze data to ensure their validity and reliability; submit accurate and timely data; adjust to constantly changing technology; protect privacy, confidentiality, and security of the data; and enhance data governance strategies to resolve data issues that involve multiple State program offices. In our experience, TA provided to States is most effective when it is provided on a coordinated basis across relevant Department offices, State offices, and data TA providers (e.g., State Support Teams working with Statewide Longitudinal Data Systems that include IDEA data).

Strengthen data validation procedures. After data collection occurs at the local level and prior to the submission of IDEA data to the Department, States must have effective systematic data validation procedures to ensure the accuracy of data submitted to the Department.

Many States do not have effective data validation procedures in place. The Department has found that States frequently submit IDEA data with preventable errors such as missing data values or data that conflict with State policies (e.g., reporting 15-year-old students as exiting special education due to graduating with a regular high school diploma when the State minimum age of graduation is 17). To ensure that data are valid and reliable, it is important to build the capacity of States by providing TA prior to and immediately following their data submission to the Department. TA should be provided on matters such as (a) ensuring that State special education program staff have appropriate access to data before the data are submitted to the Department so that special education program staff can conduct thorough data validation procedures on IDEA data, (b) improving reliability across data collectors, and (c) enhancing automated validation procedures (e.g., business rules in the data system and correction of identified errors).

Ensure data are collected and reported from all relevant programs. States need TA to ensure that data from all State and local programs, districts, and schools that are providing IDEA services to children with disabilities are appropriately included in relevant data collections and that the State is reporting data at all appropriate levels (e.g., State, district, school, early intervention program) for every APR indicator and for all data required in section 618(a) of the IDEA. In its review of IDEA data, the Department found, for example, that not all State Operated Programs for children who are deaf or blind,³ juvenile justice centers, or charter schools are included in the IDEA data reports submitted via EDFacts. The Department has also identified instances of State-level data omissions and duplicate reporting.

³ For IDEA purposes, State Operated Programs include elementary/secondary programs operated by the State for children who are deaf or blind. ” State Operated” is defined by the National Center for Education Statistics for the Common Core of Data collection. See http://nces.ed.gov/pubs2011/pesagencies09/glossary.asp. Procedures for reporting IDEA data from State Operated Programs are described in the data reporting hierarchy on page 58, Section 9.1 of www2.ed.gov/about/inits/ed/edfacts/eden/11-12-workbook-8-0.pdf.

Problems with collecting and reporting data from all relevant programs has become even more evident in recent years. In 2007, the Department issued regulations ⁴ requiring that States submit reports in the manner prescribed by the Secretary and at the quality level (e.g., level of data accuracy and completeness) specified in the data collection instrument. The reporting system prescribed by the Secretary was EDFacts, and this regulation resulted in changes to the State data reporting procedures for data required in section 618 of the IDEA about children and students ages 3 through 21 (school-age). Further, in order to continue improving the quality of the IDEA data submissions, data collected by States at LEA and school levels are also reported through EDFacts. In 2011, data required in section 618 of the IDEA for school-age children were reported by States for nearly 15,000 LEAs and almost 100,000 schools through EDFacts.

⁴ Education Department General Administrative Regulations (EDGAR), 34 CFR 76.720.

Given this increase in reporting, the associated challenges of managing the submissions, and the increased use of the LEA- and school-level data by the Department for reviewing data and understanding IDEA implementation within States, it has become even more important for States to ensure that all programs, agencies, and schools serving children with disabilities collect and accurately report the required IDEA data.

Address personnel training needs. States need TA to address the diverse training needs of personnel who collect and report data about students with disabilities in all of their programs, agencies, and schools. School-, LEA-, and State-level IDEA data, as well as non-IDEA data about school-age students with disabilities, are collected and used to meet data collection requirements for multiple Department programs (e.g., Consolidated State Performance Report under the Elementary and Secondary Education Act of 1965; Civil Rights Data Collection). In its review of the data collection and analysis capacity of States, the Department found that States need TA to help them ensure that local data collectors understand the similarities and the differences between the data requirements for IDEA and non-IDEA data collections that include data elements about students with disabilities and special education personnel. For example, the Department found errors in IDEA data about special education teachers because personnel collecting and reporting local data were not clear about the differences between the number of core content classes taught by highly qualified teachers under the Elementary and Secondary Education Act of 1965, and the IDEA data about the number of special education teachers hired to provide services to students with disabilities. The Department found that some States submitted the same counts for both data collections. That is, some States reported the same number of core content classes taught by highly qualified teachers (as submitted for the Consolidated State Performance Report) as they did for the number of special education teachers who were highly qualified (as submitted for the IDEA personnel data collection). The data elements appear similar because both measure some aspect of teacher qualifications, but one is about reporting a count of core content classrooms and the other is about reporting the number of special education teachers hired. Through TA to the State, differences in reporting requirements can be clarified and corrected so that local personnel who collect, and State personnel who report, IDEA data understand and accurately report the data to the Department.

In annual meetings with State IDEA Data Managers and EDFacts Coordinators, State personnel have identified an urgent need for user-friendly instructional materials about IDEA data collections that can be used within and across States to enhance the capacity of staff in agencies, programs, schools, and districts to support accurate data collection at the local level. Examples of TA products and services about IDEA data that are needed by every State include training modules and webinars that are targeted to local staff who collect data regarding children with disabilities.

Support transition of data into EDFacts. States need continued TA to accurately report all IDEA data required in section 618(a) of the IDEA in the manner prescribed by the Secretary. This includes moving Part C data reporting into EDFacts from a legacy data collection system that was formerly used by the Department to collect IDEA data. EDFacts relies on the Education Data Exchange Network (EDEN) Submission System, a centralized portal through which States submit their education data, including IDEA data, to the Department. The EDFacts submission procedures must be understood by the grantee who is funded so that the grantee can provide TA that enhances State capacity to collect and report timely and accurate IDEA data.

Increase State communication with local data collectors about data validation results. States need TA to strengthen the validity of data through targeted analyses of data and communication of results to local data collectors and data consumers (e.g., school boards; EIS programs and providers; parents of infants, toddlers, and children with disabilities; and the public). Currently, limited information from the State goes back to local data collectors after data have been compiled by the State. State IDEA Data Managers and EDFacts Coordinators note the importance of communicating results back to schools, LEAs, agencies, and EIS programs and providers in a format that is understandable to the local programs. State EDFacts Coordinators and IDEA Data Managers have asked for TA on ways to expand opportunities for local program staff to actively participate in data validation processes and create local processes to correct the data before it is submitted to the Department by building tools for organizing data in a meaningful way for data consumers (e.g., data dashboards for Superintendents).

Improve accuracy of qualitative information in the APRs and strengthen improvement activities. States need TA to improve the accuracy of qualitative information provided in the APR and to more clearly target future improvement activities that are based on the qualitative and quantitative IDEA data available to the State. Examples of data quality issues (e.g., States did not use the source data specified in the instructions) are included in APR summary documents that are publicly available. The 2010 Part B SPP/APR Analysis Document is available at http://therightidea.tadnet.org/assets/1684 and the 2010 Part C SPP/APR Analysis Document is available at http://therightidea.tadnet.org/assets/746. Data quality issues with accompanying improvement activities are posted in individual State response letters publicly posted at www2.ed.gov/fund/data/report/idea/partbspap/index.html.

To meet the array of complex challenges regarding the collection, analysis, and reporting of data by States, the Office of Special Education Programs (OSEP) proposes to support the establishment and operation of a National Technical Assistance Center to Improve State Capacity to Accurately Collect and Report IDEA Data.

Proposed Priority

The Assistant Secretary proposes to fund a cooperative agreement to support the establishment and operation of a National Technical Assistance Center to Improve State Capacity to Accurately Collect and Report IDEA Data (Data Center). The Data Center will provide TA to improve the capacity of States to meet the IDEA data collection and reporting requirements by:

(a) Improving data infrastructure by coordinating and facilitating communication and effective data governance strategies among relevant State offices, LEAs, schools, EIS programs, and TA providers to improve the quality of the IDEA data;

(b) Using results from the Department's auto-generated error reports to communicate with State IDEA Data Managers and other relevant offices in the State (e.g., EDFacts Coordinator) about data that appear to be inaccurate and provide support to the State (as needed) to enhance current State validation procedures to prevent future errors in State-reported IDEA data;

(c) Using the results of the Department's review of State-reported data to help States ensure that data are collected and reported from all programs providing special education and related services within the State;

(d) Addressing personnel training needs by developing effective informational tools (e.g., training modules) and resources (e.g., cross-walk documents about IDEA and non-IDEA data elements) about data collecting and reporting requirements that States can use to train personnel in schools, programs, agencies, and districts;

(e) Supporting States in submitting data into EDFacts by coordinating with EDFacts TA providers (i.e., Partner Support Center; see www2.ed.gov/about/inits/ed/edfacts/support.html) about IDEA-specific data reporting requirements and providing EDFacts reports and TA to States to help them improve the accuracy of their IDEA data submissions;

(f) Improving IDEA data validation by using results from data reviews conducted by the Department to work with States to generate tools (e.g., templates of data dashboards) that can be used by States to accurately communicate data to local data-consumer groups (e.g., school boards, the general public) and lead to improvements in the validity and reliability of data required by IDEA; and

(g) Using results from the Department's review of State-reported APR data to provide intensive and individualized TA to improve the accuracy of qualitative information provided in the APR about the State's efforts to improve its implementation of the requirements and purposes of IDEA, and to more accurately target its future improvement activities.

The TA provided by the Data Center must be directed at all relevant parties within a State that can affect the quality of IDEA data and must not be limited to State special education or early intervention offices. The Data Center's TA must primarily target data issues identified through the Department's review of IDEA data. TA needs can also be identified by a State's review of IDEA data or other relevant means, but TA must be based on an identified need related to improving IDEA data accuracy or timeliness. Effectiveness of the Data Center's TA will be demonstrated through changes in a State's capacity to collect and report valid and reliable IDEA data and resolve identified data issues.

To be considered for funding under this absolute priority, applicants must meet the application requirements contained in this priority. Any projects funded under this priority also must meet the programmatic and administrative requirements specified in the priority.

Application Requirements. An applicant must include in its application—

(a) A logic model that depicts, at a minimum, the goals, activities, outputs, and outcomes of the proposed project. A logic model communicates how a project will achieve its outcomes and provides a framework for both the formative and summative evaluations of the project;

Note: The following Web site provides more information on logic models and lists multiple online resources: www.cdc.gov/eval/resources/index.htm;

(b) A plan to implement the activities described in the Project Activities section of this priority;

(c) A plan, linked to the proposed project's logic model, for a formative evaluation of the proposed project's activities. The plan must describe how the formative evaluation will use clear performance objectives to ensure continuous improvement in the operation of the proposed project, including objective measures of progress in implementing the project and ensuring the quality of products and services;

(d) A budget for a summative evaluation to be conducted by an independent third party;

(e) A budget for attendance at the following:

(1) A one and one-half day kick-off meeting to be held in Washington, DC, after receipt of the award, and an annual planning meeting held in Washington, DC, with the OSEP Project Officer and other relevant staff during each subsequent year of the project period.

Note: Within 30 days of receipt of the award, a post-award teleconference must be held between the OSEP Project Officer and the grantee's project director or other authorized representative;

(2) A three-day Project Directors' Conference in Washington, DC, during each year of the project period;

(3) A two-day Leveraging Resources Conference in Washington, DC, during each year of the project;

(4) A two-day EDFacts Coordinators Meeting each year held in various locations;

(5) Up to 36 days per year on-site at the Department to participate in meetings about IDEA data; attend EDFacts Data Governance Board (EDGB) monthly meetings; conduct conference sessions with program staff from States, LEAs, schools, EIS programs, or other local programs who contribute to the State data system to meet IDEA data collection requirements (e.g., National Center on Education Statistics conferences); coordinate TA activities with other Department TA initiatives including, but not limited to, the Privacy TA Center (see www2.ed.gov/policy/gen/guid/ptac/index.html), Statewide Longitudinal Database Systems TA (see http://nces.ed.gov/programs/slds/), Implementation and Support Unit TA (see www2.ed.gov/about/inits/ed/implementation-support-unit/index.html), and EDFacts Partner Support Center (see www2.ed.gov/about/inits/ed/edfacts/support.html); and attend other meetings requested by OSEP; and

(f) A line item in the proposed budget for an annual set-aside of four percent of the grant amount to support emerging needs that are consistent with the proposed project's activities, as those needs are identified in consultation with OSEP.

Note: With approval from the OSEP Project Officer, the Center must reallocate any remaining funds from this annual set-aside no later than the end of the third quarter of each budget period.

Project Activities. To meet the requirements of this priority, the Center, at a minimum, must conduct the following activities:

Technology and Tools

(a) Assist relevant parties in the State in the development of data validation procedures and tools; and

(b) Assist States in creating or enhancing TA tools for local entities to accurately collect and report data required in section 618 of the IDEA (e.g., data reporting instructions targeted to local service providers and data collectors) and section 616 of the IDEA to accurately complete APR indicators each year; tools must be designed to improve the capacity of States to meet IDEA data requirements.

TA and Dissemination Activities

(a) Provide technical assistance to State data submitters and local data collectors on various data quality issues; topics must include summaries of data quality issues evident from data reviews that will be primarily conducted by the Department; as appropriate, technology should be used to convey information efficiently and effectively (e.g., webinars);

(b) Develop an agenda for information sessions, which can be conducted at conferences or through webinars, specific to required IDEA data and submit the agenda for approval by OSEP. The purpose of the sessions is to ensure that State IDEA Data Managers have current knowledge and tools to collect, analyze, and accurately report IDEA data to the Department and gain new knowledge and tools that can be used to build data capacity at the local level;

(c) Provide ongoing, timely TA about IDEA data requirements (e.g., how to account for students' time in school during non-academic time, such as during lunchtime, when determining how much time each student with a disability spends in the general education setting) using a toll-free number and electronic communication that is coordinated with other relevant TA providers; all TA inquiries and responses must be logged using standardized procedures that will be developed by the grantee and be accessible to the OSEP Project Officer;

(d) Provide a range of general and targeted TA products and services ⁵ on evidence-based practices that promote valid and reliable data and build the capacity of data collectors to collect valid and reliable data; all TA must improve the capacity of States to meet IDEA data requirements;

⁵ For information about universal/general, targeted/specialized, and intensive/sustained TA, see http://tadnet.org/uploads/File/TAD%20concept%20framework%2011-18-09.swf.

(e) Conduct approximately eight intensive on-site TA visits each year that will improve the capacity of States to meet IDEA data requirements. Visits should be distributed among Part C and Part B programs based on need and consultation with OSEP. On-site TA visits should be coordinated with other Department on-site visits (e.g., EDFacts, OSEP monitoring), to the extent that coordination will lead to improvements in the collection, analysis, and accurate reporting of IDEA Part B data at the school, LEA, and State levels and of IDEA Part C data by EIS providers and at the program and State levels. All intensive TA visits should include State Data Managers, EDFacts Coordinators (as appropriate), and other relevant State parties. The TA visits may include local data collectors or reporters, such as representatives from local early intervention programs and focus on: (1) An identified data validity issue or system capacity issue; (2) measurable outcomes; and (3) “mapping” the relationship of the data validity issue or system capacity issue with other IDEA data elements (i.e., identifying all IDEA data elements that are affected by the data validity issue or system capacity issue);

(f) Plan and conduct local-level data analytic workshops, which can be conducted at conferences or through webinars, to improve the capacity of States to meet IDEA data collection requirements. The workshops must target interdisciplinary teams of professionals from a small group of LEAs or EIS programs and providers from each participating State to analyze the validity of data about a targeted issue relevant to infants, toddlers, children, or students with disabilities (e.g., equity in disciplinary practices) and lead to plans with improvement activities that can be used by the programs or LEAs to meet IDEA data requirements, as well as inform State-level data quality initiatives;

(g) Maintain a Web site that meets government or industry-recognized standards for accessibility that is targeted to local and State data collectors. TA material developed by the Data Center must be posted on the site;

(h) Support States in verifying the accuracy and completeness of IDEA data submissions, including ensuring that data are consistent with data about students with disabilities reported in other data collections (e.g., ensure counts of students with disabilities that are reported for IDEA purposes align appropriately with counts reported for other Federal programs);

(i) Compile recommendations from States about automated data validation procedures that can be built into EDFacts to support States in submitting accurate data. Examples include business rules that would prevent States from submitting invalid data (e.g., greater than 100 percent of assessment participants scoring proficient) and alerts that would ask the State to verify the accuracy of improbable data prior to completion of the submission (e.g., no data where non-zero counts are expected);

(j) Quickly respond to inquiries related to correcting data validation errors, clarifying submission procedures, or identifying specific data reporting instructions. The Department estimates approximately 400 individual inquiries (e.g., phone or email) will be received each year; many of these inquiries will be immediately before the deadline for States to make a data submission;

(k) Prepare and disseminate reports, documents, and other materials on topics deemed beneficial for supporting States in accurately meeting IDEA data collection and reporting requirements;

(l) Develop guidance documents and tools to be used by States to communicate with local data collectors about new or changing data requirements using current technology;

(m) Support States in meeting APR submission requirements, including—

(1) As needed, evaluate sampling plans developed by States to report APR data based on a sample of districts, schools, or EIS programs;

(2) Evaluating the quality, accuracy, and validity of SPP and APR quantitative data and developing and providing a summary report for OSEP's annual APR Indicator Analyses report so that it can identify State TA needs for accurate collection, analysis, and reporting of IDEA data; and

(3) Using results from the Department's review of APR data to support States in their analysis of available data so that States can provide more accurate qualitative information to the Department about its efforts to improve its implementation of the requirements and purposes of the IDEA, and to more accurately target its future improvement activities.

Leadership and Coordination Activities

(a) Consult with a group of persons, including representatives from State and local educational agencies and State Part C Lead Agencies and local programs; school or district administrators; IDEA data collectors; data-system staff responsible for IDEA data quality; data system management or data governance staff; and other consumers of State-reported IDEA data, as appropriate, on the activities and outcomes of the Center and solicit programmatic support and advice from various participants in the group, as appropriate. The Center may convene meetings, whether in person, by phone or other means, for this purpose, or may consult with group participants individually. The Center must identify the members of the group to OSEP within eight weeks after receipt of the award;

(b) Communicate and coordinate, on an ongoing basis, with other Department-funded projects, including those using data to support States, to: (1) Develop products to improve data collection capacity (e.g., Doing What Works Clearinghouse); (2) support State monitoring of IDEA implementation through data use; or (3) develop and disseminate resources about privacy issues (e.g., Privacy TA Center (PTAC); see www.ed.gov/ptac); and

(c) Maintain ongoing communication with the OSEP Project Officer.

Types of Priorities

When inviting applications we designate the priority as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the competitive preference priority (34 CFR 75.105(c)(2)(i)); or (2) selecting an application that meets the competitive preference priority over an application of comparable merit that does not meet the competitive preference priority (34 CFR 75.105(c)(2)(ii)).

Invitational priority: Under an invitational priority, we are particularly interested in applications that meet the invitational priority. However, we do not give an application that meets the invitational priority a competitive or absolute preference over other applications (34 CFR 75.105(c)(1)).

Final Priority

We will announce the final priority in a notice in the Federal Register. We will determine the final priority after considering responses to this notice and other information available to the Department. This notice does not preclude us from proposing or funding additional priorities, subject to meeting applicable rulemaking requirements.

Note: This notice does not solicit applications. In any year in which we choose to use this proposed priority, we invite applications through a notice in the Federal Register.

Executive Orders 12866 and 13563

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local or Tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This proposed regulatory action is not a significant regulatory action subject to review by OMB under section 3(f) of Executive Order 12866.

We have also reviewed this regulatory action under Executive Order 13563, which supplements and explicitly reaffirms the principles, structures, and definitions governing regulatory review established in Executive Order 12866. To the extent permitted by law, Executive Order 13563 requires that an agency—

(1) Propose or adopt regulations only on a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are taking this regulatory action only on a reasoned determination that its benefits justify its costs. In choosing among alternative regulatory approaches, we selected those approaches that maximize net benefits. Based on the analysis that follows, the Department believes that this regulatory action is consistent with the principles in Executive Order 13563.

In accordance with both Executive orders, the Department has assessed the potential costs and benefits of this regulatory action. The potential costs associated with this regulatory action are those resulting from statutory requirements and those we have determined as necessary for administering the Department's programs and activities.

We have also determined that this regulatory action does not unduly interfere with State, local, and tribal governments in the exercise of their governmental functions.

Intergovernmental Review: This program is subject to Executive Order 12372 and the regulations in 34 CFR part 79. One of the objectives of the Executive order is to foster an intergovernmental partnership and a strengthened Federalism. The Executive order relies on processes developed by State and local governments for coordination and review of proposed Federal financial assistance.

This document provides early notification of our specific plans and actions for this program.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: August 1, 2012.
Alexa Posny,
Assistant Secretary for Special Education and Rehabilitative Services.

[FR Doc. 2012-19162 Filed 8-3-12; 8:45 am]

BILLING CODE 4000-01-P